DEPARTMENT OF AGRICULTURE

Rural Utilities Service

[DOCKET #: RUS-23-WATER-0009]

Notice of Funding Opportunity for Calendar Year 2022 Disaster Water Grants Program for Fiscal Year 2023; Water and Environmental Programs

AGENCY: Rural Utilities Service, USDA.

ACTION: Notice.

SUMMARY: The Rural Utilities Service (RUS or Agency), a Rural Development (RD) mission area of the United States Department of Agriculture (USDA), announces the acceptance of applications under the Calendar Year (CY) 2022 Disaster Water Grants Program for Fiscal Year (FY) 2023. The Agency will have at least $247,250,000 in grant funding through the Disaster Relief Supplemental Appropriations Act, 2023. Grant funds will be made available to qualified, rural applicants to pay for necessary expenses related to water infrastructure systems damaged by events that occurred during CY 2022 and were recognized through Presidentially Declared Disasters. All applicants are responsible for any expenses incurred in developing their applications.

DATES: Applications will be accepted on a continual basis, beginning on June 22, 2023 until funds are exhausted. To comply with the Congressional Review Act, there is a 60-day delay in the effective date of this action, and the Agency will not take action on applications until the later of 60 days after notification to Congress or August 21, 2023.

ADDRESSES: Applications and supporting documentation must be submitted electronically through USDA's application intake system, RD APPLY, at https://rdapply.usda.gov. Application documents and additional resources are available at https://www.rd.usda.gov/programs-services/water-environmental-programs/calendar-year-2022-disaster-water-grants-program.

This funding opportunity will also be posted to https://www.grants.gov.

FOR FURTHER INFORMATION CONTACT: Angela Tilghman, Water and Environmental Programs, RUS, USDA at Water-RD@usda.gov. Persons with disabilities that require alternative means for communication should contact the USDA Target Center at (202) 720-2600 (voice) or the 711 Relay Service.

Funding under this Notice will be delivered in coordination with the USDA RD State Offices. Applicants are encouraged to contact their respective USDA RD State Offices, as designated by where the project is located, for further information on submitting applications under this Notice. A list of USDA RD State Office contacts is provided at the following link: https://www.rd.usda.gov/about-rd/state-offices.

SUPPLEMENTARY INFORMATION:

Overview

Federal Awarding Agency Name: Rural Utilities Services.

Funding Opportunity Title: Calendar Year 2022 Disaster Water Grants Program.

Announcement Type: Notice of Funding Opportunity (NOFO).

Funding Opportunity Number: RD-RUS-CY22Disaster.

Assistance Listing: 10.760.

Dates: Applications will be accepted on a continual basis, beginning on June 22, 2023, until funds are exhausted. To comply with the Congressional Review Act, there is a 60-day delay in the effective date of this action, and the Agency will not take action on applications until the later of 60 days after notification to Congress or August 21, 2023.

Rural Development Key Priorities: The Agency encourages applicants to consider projects that will advance the following key priorities:

• Assisting rural communities recover economically through more and better market opportunities and through improved infrastructure;

• Ensuring all rural residents have equitable access to RD programs and benefits from RD funded projects; and

• Reducing climate pollution and increasing resilience to the impacts of climate change through economic support to rural communities.

A. Program Description

1. Purpose of the Program. The CY 2022 Disaster Water Grants Program is designed to assist communities by awarding grant funds to qualified entities for expenses related to water infrastructure systems in designated areas that were impacted by events that occurred during CY 2022 and were recognized through Presidentially Declared Disasters. In addition to damage repairs, these grants are also intended to develop system capacity and resiliency in order to reduce or eliminate long-term risks from future events. Subject to any updates to the Presidentially Declared Disasters, the following states have been identified as containing areas that have been impacted by qualifying events during CY 2022: Alaska, American Samoa, Arizona, California, Florida, Hawaii, Idaho, Illinois, Iowa, Kansas, Kentucky, Maine, Massachusetts, Minnesota, Mississippi, Missouri, Montana, Nebraska, Nevada, New Mexico, New York, North Carolina, North Dakota, Oklahoma, Oregon, Puerto Rico, Rhode Island, South Carolina, South Dakota, Tennessee, Texas, U.S. Virgin Islands, Virginia, Washington, and West Virginia. For the most current list of Presidentially Declared Disasters, visit the United States (U.S.) Department of Homeland Security, Federal Emergency Management Agency (FEMA) website at https://www.fema.gov/disaster/declarations.

2. Statutory and Regulatory Authority. The CY 2022 Disaster Water Grants Program is authorized pursuant to 5 U.S.C. 301; 7 U.S.C. 1989; 16 U.S.C. 1005; and Division N of the Consolidated Appropriations Act, 2023, Public Law 117-328. It is implemented in accordance with the provisions established within Uniform Administrative Requirements, Cost Principles, and Audit Requirements for Federal Awards, 2 CFR parts 200 and 400, uniform Federal grant awards regulations, 7 CFR part 1780 and this NOFO.

3. Definitions. The terms and conditions provided in this NOFO are applicable to and for purposes of this NOFO only.

Agency. RUS or its successors, and the USDA RD employees acting on behalf of RUS in accordance with the appropriate delegations of authority.

Calendar Year (CY). The period-of-time beginning on January 1 and ending on December 31 of each year.

Eligible Project Costs. The costs incurred during the period of performance and that are directly related to the use and purposes of the CY 2022 Disaster Water Grants Program. See Section C.2. of this Notice for eligible project costs.

Median Household Income (MHI). The income data used in this part to determine MHI must be that which most accurately reflects the income of the service area. The MHI will be the income data for the service area as determined by the Agency-approved five-year income dataset from the United States Department of Commerce, United States Census Bureau, American Community Survey (ACS) or, if needed, other Agency-approved Census Bureau data. If there is reason to believe that the ACS data is not an accurate representation of the MHI within the area to be served, the reasons will be documented and the applicant may furnish, or the Agency may obtain, additional information regarding such MHI. Information will consist of reliable data from local, regional, State, Tribal or Federal sources, or from a survey conducted by a reliable impartial source which meets Agency established standards.

Prefabricated Homes Communities. Mobile, manufactured, and modular homes that share a private public water and/or sewer system.

Presidentially Declared Disasters. A declaration made by the President in accordance with applicable statues that a disaster exists, necessitating assistance in the recovery of the impacted area.

Rural or Rural Area. For purposes of this Notice, any area in a city, town, or unincorporated area identified through Presidentially Declared Disasters with a population not in excess of 35,000 inhabitants, according to the latest Agency-implemented decennial census of the United States. The population of the community is as adjusted by the exclusion of individuals incarcerated on a long-term or regional basis, and the exclusion of the first 1,500 individuals who reside in housing located on a military base. The area to be served may be made up of combinations of these eligible areas. If the applicable population figure cannot be obtained from the most recent decennial Census, RUS will determine the applicable population figure based on available population data. Facilities financed may be located in non-rural areas. However, funds may be used to finance only that portion of the facility serving rural areas, regardless of facility location.

State. References in this NOFO to State, State government, or State agency are limited to any of the 50 States of the U.S., the Commonwealth of Puerto Rico, the U.S. Virgin Islands, Guam, American Samoa, the Commonwealth of the Northern Mariana Islands, and, as may be determined by the Secretary to be feasible, appropriate and lawful, the Freely Associated States and the Federated States of Micronesia, the Republic of the Marshall Islands, and the Republic of Palau which were identified through Presidentially Declared Disasters related to events that occurred during CY 2022.

State Nonmetropolitan Median Household Income (SNMHI). Median household income of a state's nonmetropolitan counties and portions of metropolitan counties outside of cities, towns, or places of 50,000 or more in population. The SNMHI is set by the Agency. The nonmetropolitan median household income of the State may only be updated on a national basis by the Agency.

4. Application of Awards. The Agency will review, evaluate, and score applications received in response to this Notice. Awards under the CY 2022 Disaster Water Grants Program will be made on a rolling basis, providing priority to applications using specific selection criteria contained in this Notice. The Agency advises all interested parties that the applicant bears the full burden in preparing and submitting an application in response to this Notice regardless of if funding is awarded.

B. Federal Award Information

Type of Award: Grants.

Fiscal Year Funds: FY 2023.

Available Funds: At least $247,250,000. RUS may at its discretion, increase the total level of funding available in this funding round from any available source provided the award(s) meets the requirements of the statute which made the funding available to the Agency.

Award Amounts: No minimum or maximum award amount.

Anticipated Award Date: Summer 2023 until all funds are expended.

Performance Period: The grant period is not to exceed 48-months from the obligation of funds date, unless agreed to by the Agency.

Renewal or Supplemental Awards: Applications for renewal or supplementation of existing projects may be eligible to compete with applications for new Federal awards under this program. Funding provided through this NOFO does not guarantee or otherwise imply any future commitment of funding for renewal or supplementation of existing projects. Should additional RUS funding be needed from other Agency programs to carry out the proposed scope of work, the application requirements of each program will be applicable.

Type of Assistance Instrument: Grant Agreement.

Approximate Number of Awards: The number of awards will depend on the number of eligible applications and the total amount of requested funds.

C. Eligibility Information

1. Eligible Applicants. Eligible applicants must meet the following eligibility requirements:

(a) Be either a Public Body, an organization operated on a not-for-profit basis, a tribe, or a prefabricated home organization operating an eligible community-based system. Non-tribal applicants proposing to serve tribes and tribal areas should have the support of those tribes either in the form of a Tribal Resolution and/or letter of support for the project impacting their communities.

(b) Be eligible to receive and administer a Federal grant under Federal law.

(c) Each applicant must: (1) Have or will obtain the legal authority necessary for owning, constructing, operating, and maintaining the facility or service to be repaired or replaced and for issuing security for the proposed grant; (2) Be responsible for operating, maintaining, and managing the facility, and providing for its continued availability and use at reasonable user rates and charges; and (3) Retain this responsibility even though the facility may be operated, maintained, or managed by a third party under contract or management agreement.

(d) Demonstrate that they possess the technical, managerial, and financial capability necessary to consistently comply with pertinent Federal and State laws and requirements.

(e) Have no delinquent debt to the federal government or no outstanding judgments to repay a federal debt.

2. Eligible Project Costs.

(a) Grant funds may be used by eligible applicants to pay for expenses:

(1) Related to restoration, repair, or rebuilding to water infrastructure systems. Water infrastructure systems include drinking water, wastewater, solid waste, and stormwater projects serving eligible communities. Adequate documentation must be provided to demonstrate impacts to the water infrastructure systems, watershed, or water resources.

(2) To develop system capacity and resiliency to reduce or eliminate long-term risks from hazards and their effects on water infrastructure systems identified above.

(3) Related to restoration, repair, or rebuilding, and is not limited to replacing what was present prior to the disaster. Facilities should be planned and constructed in a sustainable way that reduces or eliminates long-term risk to people and property from future disasters. Projects must consider current and future community needs and meet current building codes and other standards, while also improving resilience to future disasters.

(b) When associated with an eligible construction project, funding may be used to pay for:

(1) Reasonable fees and costs such as: legal, engineering, administrative services, fiscal advisory, recording, environmental analyses and surveys, possible salvage or other mitigation measures, planning, establishing or acquiring rights.

(2) Costs of acquiring interest in land to include rights, leases, permits, rights-of-way; and other evidence of land or protection necessary for development of the facility.

(3) Purchasing or renting equipment necessary to install, operate, maintain, extend, or protect facilities.

(4) Costs of additional applicant labor and other expenses necessary to install and extend service.

(5) Costs for connecting the user to the main service line.

(6) Repairs and replacements already made to restore service. Grants may be awarded to reimburse applicants for expenses incurred in recovery and response efforts. Adequate documentation must be provided to demonstrate that the expenses are related to an event that occurred in CY 2022 identified through a Presidentially Declared Disaster, and that it was necessary to complete the repairs prior to submitting an application for assistance. Additional documentation may be needed to ensure environmental and certain other Agency requirements are met.

(7) Other costs that the Agency determines to be eligible and necessary.

(c) Project costs must be for necessary expenses related to water infrastructure systems damaged by events that occurred during CY 2022 and were recognized through Presidentially Declared Disasters.

3. Cost Sharing or Matching. There are no cost sharing or matching requirements associated with this grant.

4. Other. There shall be no reimbursement for repairs, replacements, or other improvements made or financed using insurance proceeds or funding from other Federal grant programs, including but not limited to awards provided by FEMA, U.S. Environmental Protection Agency or state agencies delivering funding on its behalf, and U.S. Housing and Urban Development's Community Development Block Grants.

D. Application and Submission Information

1. Address to Request Application Package. General information related to the CY 2022 Disaster Water Grants Program, copies of necessary forms and samples, and other program guidance is available at https://www.rd.usda.gov/programs-services/water-environmental-programs/calendar-year-2022-disaster-water-grants-program. Applications and supporting documentation must be submitted electronically through USDA's application intake system, RD APPLY, at https://rdapply.usda.gov.

For additional information on how to apply, including local field office contacts, please see the “For Further Information Contact” section of this Notice.

2. Content and Form of Application Submission. To be considered for funding, applicants must be an eligible entity and submit a complete application. A complete application must contain all required elements outlined in this Notice. Applicants will be required to submit the following items to the processing office electronically via RD APPLY.

(a) Standard Form (SF) 424, “Application for Federal Assistance.”

(b) SF 424-C, “Budget Information-Construction Programs.”

(c) SF 424-D, “Assurances-Construction Programs.”

(d) Form RD 1910-11, “Application Certification, Federal Collection Policies for Consumer or Commercial Debts.”

(e) Form RD 400-1, “Equal Opportunity Agreement.”

(f) Form RD 400-4, “Assurance Agreement.”

(g) If the applicant is a public body, the following must be provided:

(1) Copy of a resolution, statute, or state constitutional provision that creates the public body, or

(2) Legal opinion from the applicant's attorney identifying the name and title of the official who can act on behalf of the applicant and denoting the applicant's legal authority to: (1) Accept grant funds and enter into the proposed transaction and (2) Comply with regulatory requirements and carry out the responsibilities imposed by the program.

(h) If the applicant is a nonprofit entity, the following must be provided:

(1) At least one of the following must be presented:

(A) Documentation to verify the IRS currently recognizes the applicant as a 501(c)(3) organization;

(B) A statement from a State taxing body or the State attorney general certifying that: (i) The organization is a nonprofit operating within the state, and (ii) No part of its net earnings may lawfully benefit any private shareholder or individual; or,

(C) A certified copy of the applicant's certification of incorporation or similar document if it clearly establishes the nonprofit status of the applicant.

(2) Certificate of Good Standing from the Secretary of State.

(3) Articles of Incorporation and amendments (if applicable).

(4) Current By-Laws.

(5) List of local Board of Director to include addresses and term period.

(i) If the applicant is a prefabricated home communities' organization, the following must be provided:

(1) Articles of Organization.

(2) Employer Identification Number.

(3) Operating Licenses and Certifications, as required.

(4) Operating Agreement.

(j) A copy of, or reference to, the Presidential Disaster Declaration used to qualify for funding under this Notice.

(k) The material submitted with the application should include a preliminary engineering report, population and median household income of the area to be served, and descriptions of the existing facility, proposed project and nature of the disaster that caused the problem(s) being addressed by the project. To meet these requirements, a preliminary engineering report is required that offers adequate justification of need, defines scope of the proposed work, and cost estimate. The simplified engineering report template in items i thru iii below may be considered for projects that are repair-in-kind and that do not require funding from other Agency programs. Projects that do not meet the preceding, must follow RUS Bulletin 1780-2, Preliminary Engineering Reports for the Water and Waste Disposal. The following items are to be considered with simplified preliminary engineering reports:

(1) Scope of Work. Describe work to be performed including type, amount, and a brief description and justification of engineering design parameters used.

(2) Cost Estimate. Provide an itemized estimate of the total project cost based on the stated period of construction. Include development and construction, land and rights, legal, engineering, equipment, contingencies, and other costs associated with the proposed project.

(3) System Resiliency and Water Reuse. When possible, system resiliency and water reuse options should be considered.

(l) A certification or letter from applicant or its attorney regarding any insurance coverage and claims, FEMA, or another Federal funding agency for this project.

(m) A completed environmental documentation report and certifications prepared in accordance with 7 CFR part 1970; and

(n) A copy of the applicant's most recent year-end financial statements, and a current balance sheet, income statement, and operating budget. The following forms may be used to present the information:

(1) Form RD 442-3, “Balance Sheet” or similar form.

(2) Form RD 442-2, “Statement of Budget, Income and Equity” or similar form.

(3) Form RD 442-7, “Operating Budget” or similar form.

3. System for Award Management and Unique Entity Identifier.

(a) At the time of application, each applicant must have an active registration in the System for Award Management (SAM) before submitting its application in accordance with 2 CFR part 25, Universal Identifier and System for Award Management. To register in SAM, entities will be required to obtain a Unique Entity Identifier (UEI). Instructions for obtaining the UEI are available at https://sam.gov/content/entity-registration.

(b) Each applicant must maintain an active SAM registration, with current, accurate and complete information, at all times during which it has an active Federal award or an application under consideration by a Federal awarding agency.

(c) Each applicant must ensure they complete the Financial Assistance General Certifications and Representations in SAM.

(d) Applicants must provide a valid UEI in its application, unless determined exempt under 2 CFR 25.110, Exceptions.

(e) The Agency will not make an award until the applicant has complied with all SAM requirements including providing the UEI. If an applicant has not fully complied with the requirements by the time the Agency is ready to make an award, the Agency may determine that the applicant is not qualified to receive a Federal award and use that determination as a basis for making a Federal award to another applicant.

(f) The entity that will retain the rights to own, operate, and maintain the constructed facility will also be required to complete the registration requirements outlined above. The timing of any requirements will be outlined in the Grant Agreement issued following the selection of an application.

4. Submission Dates and Times. Applications will be accepted on a continual basis, beginning on June 22, 2023, until funds are exhausted.

5. Intergovernmental Review. Executive Order (E.O.) 12372, “Intergovernmental Review of Federal Programs,” applies to this program. This E.O. requires that Federal agencies provide opportunities for consultation on proposed assistance with State and local governments. Many states have established a Single Point of Contact (SPOC) to facilitate this consultation. For a list of States that maintain a SPOC, please see the White House website: https://www.whitehouse.gov/omb/management/office-federal-financial-management/. If your State has a SPOC, you may submit a copy of the application directly for review. Any comments obtained through the SPOC must be provided to your State Office for consideration as part of your application. If your state has not established a SPOC, you may submit your application directly to the Agency. Applications from Federally Recognized Tribes are not subject to this requirement.

6. Funding Restrictions. Applications must be for eligible purposes as defined in Section C.2. of this Notice. Funding may not be used to pay for the following costs:

(a) Facilities which are not modest in size, design, and cost;

(b) Grant finder's fees;

(c) The construction of any new combined storm and sanitary sewer facilities;

(d) Any portion of the cost of a facility which does not serve a rural area;

(e) That portion of project costs normally provided by a business or industrial user, such as wastewater pretreatment, etc.;

(f) Rental for the use of equipment or machinery owned by the applicant;

(g) For other purposes not directly related to operation and maintenance of the facility being installed or improved; and

(h) Pay project costs when other funding is a guaranteed loan obtained in accordance with 7 CFR part 5001.

7. Other Submission Requirements. Applications and supporting information will not be accepted via, fax, electronic mail, or any other medium other than through RD APPLY at https://rdapply.usda.gov.

E. Application Review Information

1. Criteria. When ranking eligible applications for consideration for limited funds, Agency officials must consider the priority items met by each application and the degree to which those priorities are met. Points will be awarded as follows:

Criteria No. | Criteria | Points
1 | Population of proposed area(s) to be served (based on Census data):
| a. Not in excess of 2,500 | 30
| b. More than 2,500 and not in excess of 5,500 | 20
| c. More than 5,500 and not in excess of 10,000 | 15
| d. Over 10,000 | 0
2 | Income: The MHI of population to be served by the proposed project is:
| a. Not in excess of 70 percent of the SNMHI or below poverty guideline | 30
| b. More than 70 percent and not in excess of 80 percent of the SNMHI | 20
| c. More than 80 percent and not in excess of 90 percent of the SNMHI | 15
| d. More than 90 percent of the SNMHI | 0
3 | Health Priorities:
| a. Needed to alleviate an emergency situation, correct unanticipated diminution in quantity or deterioration in quality of a water supply, or to meet Safe Drinking Water Act requirements which pertain to a water system | 25
| b. Required to correct inadequacies of a wastewater disposal system, or to meet health standards which pertain to a wastewater disposal system | 25
| c. Required to meet administrative orders issued to correct local, State or Federal solid waste violations | 15
4 | Other Priorities:
| Amount of non-Agency funds committed to the project: A. 50 percent or more B. 20 percent to 49 percent C. 5 percent to 19 percent D. Less than 5 percent | 15 10 5 0
| The proposed project will enlarge, extend, or otherwise modify existing facilities to provide service to additional rural areas | 10
| The proposed project will serve an area that has an unreliable quality or supply of drinking water | 10
| Project promotes long-term system sustainability, resiliency and water reuse | Up to 15
5 | Administrator Discretion:
| RUS Administrator may provide additional points based on the identified factor * | 15
* Administrator Discretionary Points—In order to be considered for Administrator Discretionary Points, the applicant must provide adequate documentation to address the following factor:

Project is located in a Disadvantaged Community or a Distressed Community (15 points will be added). A Disadvantaged Community will be determined by the Agency by using the Council on Environmental Quality's Climate and Economic Justice Screening Tool (which is incorporated into the USDA look-up map) which identifies communities burdened by climate change and environmental injustice. Additionally, all communities within the boundaries of Federally Recognized Tribes and Alaska Native Villages will also be determined to be Disadvantaged Communities by the Agency. Distressed Community will be determined by the Agency by using the Economic Innovation Group's Distressed Communities Index (which is incorporated into the USDA look-up map), which uses several socio-economic measures to identify communities with low economic well-being. To determine if your project is located in a Disadvantaged Community or a Distressed Community, please use the following USDA look-up map: https://ruraldevelopment.maps.arcgis.com/apps/webappviewer/index.html?id=4acf083be4c44bb7864d90f97de0c788.

The Administrator Discretionary Points will be awarded solely on the aforementioned factor.

2. Review and Selection Process. Within 10 working days of receiving an application, the Agency will send you a notification of acknowledgment. The application will be reviewed for completeness to determine if all the required items were included. If the application is incomplete or ineligible, the Agency will return it with an explanation. Applicants may resubmit applications deemed incomplete or ineligible after revising them in accordance with the Agency explanation. The Agency reserves the right to offer the applicant less than the grant funding requested.

F. Federal Award Administration Information

1. Federal Award Notices

(a) Application Outcomes. There are four possible outcomes following the submission of an application under the CY 2022 Disaster Water Grants Program. The Agency reserves the right to make no grant awards if all applications are ineligible, incomplete or do not meet the established program objectives and priorities. The Agency may determine that the application is:

(1) Eligible and selected for funding,

(2) Eligible but offered fewer funds than requested,

(3) Eligible but not selected for funding, or

(4) Ineligible for the grant.

(b) Award Notices. Applicants selected for funding will be sent a Letter of Conditions, accompanied by a grant agreement, which outlines the terms and conditions of the award, and other applicable documents. Pursuant to the grant agreement, 2 CFR parts 200 and 400, and other applicable provisions, grant funds may be released over the course of the grant period in reimbursement for the performance of eligible, approved activities which do not duplicate similar federal efforts or tasks. The grant agreement may also include reporting and pre-approval requirements. If such requirements are not met, it may result in a delay in reimbursement, disallowance of expense, or a suspension of the grant.

(c) Payments/Reimbursements. Grantees will be reimbursed as per Letter of Conditions, the grant agreement, and this Notice. No funds will be disbursed prior to the Agency's receipt of the fully executed grant agreement. Funding requests may be submitted for allowable costs up to monthly and must include the appropriate supporting documentation, which may include copies of payments made to contractors and other parties, and evidence of the completed work. Payment requests must be submitted using form SF-270, “Request for Advance or Reimbursement,” or similar agency approved substitute. The grantee is responsible for the monitoring and oversight of any construction, including the monitoring of progress related to the goals and objectives and any reporting required in Section F.3. of this Notice. Construction must be performed in accordance with 7 CFR 1780, sections 1780.57, 1780.61, and 1780.67 through 1780.76.

(d) Scope of Services. The scope of work will be attached to the executed grant agreement. Related to non-reimbursement construction applications, the grantee is responsible for ensuring that all contractual, legal, and program requirements are met prior to starting work. Construction projects that require refinement to the scope of work post-obligation will provide an updated scope of work prior to proceeding with any design or entering into any contracts. RUS will review the scope of work to ensure that the project costs are eligible and then affix the revised scope of work to the grant agreement. The grantee must ensure that any updated scope of work documents meet all accessibility, civil rights, environmental, and other applicable standards.

Any change in the scope of the project, budget adjustments of more than 20 percent of the total budget, or any other significant change in the project scope must be reported to and approved by the approval official by written amendment to the grant agreement. Any change not properly approved may be cause for termination of the grant.

2. Administrative and National Policy Requirements. There are no known unusual Administrative and National Policy Requirements associated with the CY 2022 Disaster Water Grants Program. This Notice is subject to the terms and requirements of Departmental and other regulations, including 2 CFR parts 180, 182, 200, 400, 421 and any successor regulations implementing the appropriate administrative and national policy requirements.

3. Reporting. Performance reporting, including applicable forms, narratives, financials, and other documentation, are to be completed and submitted in accordance with the provisions of this Notice, 2 CFR parts 200 and 400, and the grant agreement. Further, all grantees must submit an audit or financial information covering the defined period of performance as outlined in this Notice, 2 CFR part 200, subpart F, and the grant agreement.

As outlined in Section F.1. of this Notice, Grant recipients shall constantly monitor performance to ensure that time schedules are being met, projected work by time periods is being accomplished, and other performance objectives are being achieved. The recipient will provide project reports to the Agency as follows:

(a) “Federal Financial Report (SF 425)” and Project Performance Report. An SF 425 and a project performance activity report will be required of all recipients on a quarterly basis, due 30 days after the end of each quarter.

(b) Final Project Performance Report. A final project performance report will be required with the last SF 425 due 90 days after the end of the last quarter in which the project is completed.

(c) Financial Reporting. The recipient will provide an audit report or financial statements to the Agency as follows:

(1) Recipients expending $750,000 or more Federal funds per fiscal year will submit an audit conducted in accordance with 2 CFR part 200. The audit will be submitted within the earlier of 30 calendar days after receipt of the auditor's report(s), or nine months after the recipient's fiscal year. Additional audits may be required if the project period covers more than one fiscal year.

(2) Recipients expending less than $750,000 will provide annual financial statements covering the grant period, consisting of the organization's statement of income and expense and balance sheet signed by an appropriate official of the organization. Financial statements will be submitted within 90 days after the recipient's fiscal year.

G. Federal Awarding Agency Contact(s)

For general questions about this announcement, please see the contact information provided in the For Further Information Contact section of this Notice.

H. Other Information

1. Congressional Review Act Statement. Pursuant to subtitle E of the Small Business Regulatory Enforcement Fairness Act of 1996 (also known as the Congressional Review Act or CRA); 5 U.S.C. 801 et seq., the Office of Information and Regulatory Affairs in the Office of Management and Budget designated this action as a major rule as defined by 5 U.S.C. 804(2), because it is likely to result in an annual effect on the economy of $100,000,000 or more. Accordingly, there is a 60-day delay in the effective date of this action, and the Agency will not take action on applications until the later of 60 days after notification to Congress or August 21, 2023.

2. Paperwork Reduction Act. In accordance with the Paperwork Reduction Act of 1995 (44 U.S.C. chapter 35), the information collection requirements associated with the program, as covered in this Notice, have been approved by the Office of Management and Budget (OMB) under OMB Control Number 0572-0121.

3. National Environmental Policy Act. All recipients under this Notice are subject to the requirements of 7 CFR part 1970.

4. Federal Funding Accountability and Transparency Act. All applicants, in accordance with 2 CFR part 25, must be registered in SAM and have a UEI number as stated in Section D.3 of this Notice. All recipients of Federal financial assistance are required to report information about first-tier sub-awards and executive total compensation in accordance with 2 CFR part 170, Reporting sub-award and executive compensation information.

5. Civil Rights Act. All grants made under this Notice are subject to title VI of the Civil Rights Act of 1964 as required by the USDA (7 CFR part 15, subpart A (7 CFR 15, subpart A—Nondiscrimination in Federally-Assisted Programs of the Department of Agriculture—Effectuation of title VI of the Civil Rights Act of 1964) and section 504 of the Rehabilitation Act of 1973, title VIII of the Civil Rights Act of 1968, title IX, Executive Order 13166 (Limited English Proficiency), Executive Order 11246, and the Equal Credit Opportunity Act of 1974.

6. Nondiscrimination Statement. In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the 711 Relay Service.

To file a program discrimination complaint, a complainant should complete a Form AD-3027, USDA Program Discrimination Complaint Form, which can be obtained online at https://www.usda.gov/sites/default/files/documents/ad-3027.pdf from any USDA office, by calling (866) 632-9992, or by writing a letter addressed to USDA. The letter must contain the complainant's name, address, telephone number, and a written description of the alleged discriminatory action in sufficient detail to inform the Assistant Secretary for Civil Rights (ASCR) about the nature and date of an alleged civil rights violation.

The completed AD-3027 form or letter must be submitted to USDA by:

(a) Mail: U.S. Department of Agriculture, Office of the Assistant Secretary for Civil Rights, 1400 Independence Avenue SW, Washington, DC 20250-9410; or

(b) Fax: (833) 256-1665 or (202) 690-7442; or

(c) Email: program.intake@usda.gov.

USDA is an equal opportunity provider, employer, and lender.

Andrew Berke,
Administrator, Rural Utilities Services, USDA Rural Development.

[FR Doc. 2023-13232 Filed 6-21-23; 8:45 am]

BILLING CODE 3410-15-P